DEPARTMENT OF COMMERCE

Foreign-Trade Zones Board

[S-221-2020]

Approval of Subzone Status; CMC Steel Fabricators, Inc., d/b/a CMC Steel Arizona, Mesa, Arizona

On December 10, 2020, the Executive Secretary of the Foreign-Trade Zones (FTZ) Board docketed an application submitted by the City of Mesa, grantee of FTZ 221, requesting subzone status subject to the existing activation limit of FTZ 221, on behalf of CMC Steel Fabricators, Inc., d/b/a CMC Steel Arizona, in Mesa, Arizona.

The application was processed in accordance with the FTZ Act and Regulations, including notice in the Federal Register inviting public comment (85 FR 81449, December 16, 2020). The FTZ staff examiner reviewed the application and determined that it meets the criteria for approval. Pursuant to the authority delegated to the FTZ Board Executive Secretary (15 CFR Sec. 400.36(f)), the application to establish Subzone 221B was approved on March 5, 2021, subject to the FTZ Act and the Board's regulations, including Section 400.13, and further subject to FTZ 221's 2,000-acre activation limit.

Dated: March 5, 2021.
Andrew McGilvray,
Executive Secretary.

[FR Doc. 2021-05191 Filed 3-11-21; 8:45 am]

BILLING CODE 3510-DS-P